DEPARTMENT OF HEALTH AND HUMAN SERVICES

Centers for Disease Control and Prevention

[60Day-18-18AF; Docket No. CDC-2018-0093]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed generic information collection project titled “Assessments to Inform Program Refinement for HIV, other STD, and Pregnancy Prevention among Middle and High-School Aged Youth.” CDC seeks to collect qualitative and quantitative data from adolescents (ages 11-19) and their parents/caregivers to assess program needs and services.

DATES: CDC must receive written comments on or before January 8, 2018.

ADDRESSES: You may submit comments, identified by Docket No. CDC-2018-0093 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE., MS-D74, Atlanta, Georgia 30329; phone: 404-639-7570; Email: omb@cdc.gov.

SUPPLEMENTARY INFORMATION:

Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Assessments to Inform Program Refinement for HIV, other STD, and Pregnancy Prevention among Middle and High-School Aged Youth—New—Division of Adolescent and School Health (DASH), National Center for HIV/AIDS, Viral Hepatitis, STD, and TB Prevention, Centers for Disease Control and Prevention (CDC).

Background and Brief Description

The Centers for Disease Control and Prevention (CDC) seeks to request OMB approval of a one-year generic information collection plan. CDC seeks to collect qualitative and quantitative data from adolescents (ages 11-19) and their parents/caregivers to assess program needs and services.

NCHHSTP conducts behavioral and health service assessments and research projects as part of its response to the domestic HIV/AIDS epidemic, STD prevention, TB elimination and viral hepatitis control with national, state, and local partners. Adolescents make up the population of interest for DASH and several other NCHHSTP divisions, as Adolescents have specific developmental, health social, and resource needs. DASH addresses adolescent health risk factors and access to health care as the organization's primary mission. The assessment and research conducted by NCHHSTP is one pillar upon which NCHHSTP revises and updates its recommendations and guidelines. Recommendations and guidelines for adolescent sexual risk reduction require a foundation of scientific evidence.

Assessment of programmatic practices for adolescents helps to assure effective and evidence-based sexual risk reduction practices and efficient use of resources. Such assessments also help to improve programs through better identification of strategies relevant to adolescents as a population as well as specific sub-groups of adolescents at highest risk for HIV and other STDs so that programs can be better tailored for them.

The information collection requests under this generic plan intend to allow for data collection with two types of respondents:

• Adolescents (11-19 years old) of middle and high school age; and

• Parents and/or caregivers of adolescents of middle and high school age. For the purposes of this generic package, parents/caregivers include the adult primary caregiver(s) for a child's basic needs (e.g., food, shelter, and safety). This includes biological parents; other biological relatives such as grandparents, aunts, uncles, or siblings; and non-biological parents such as adoptive, foster, or stepparents.

The types of information collection activities included in this generic plan include:

(1) Quantitative data collection through electronic, telephone, or paper questionnaires to gather information about programmatic and service activities related to the prevention of HIV and other STDs among adolescents of middle- and high-school age.

(2) Qualitative data collection through electronic, telephone, or paper means to gather information about programmatic and service activities related to the prevention of HIV and other STDs among adolescents of middle- and high-school age. Qualitative data collection may involve focus groups and in-depth interviewing through group interviews, and cognitive interviewing.

For adolescents, data collection instruments will include questions on demographic characteristics; experiences with programs and services to reduce the risk of HIV and other STD transmission; and knowledge, attitudes, behaviors, and skills related to sexual risk and protective factors on the individual, interpersonal, and community levels.

For parents and caregivers, data collection instruments will include questions on demographic characteristics as well as parents'/caregivers' (1) perceptions about programs and services provided to adolescents; (2) knowledge, attitudes, and perceptions about their adolescents' health risk and protective behaviors; and (3) parenting knowledge, attitudes, behaviors, and skills.

Any data collection request put forward under this generic clearance will identify the programs and/or services to be informed or refined with the information from the collection and will include a crosswalk of data elements to the aspects of the program the project team seeks to inform or refine. Because this request includes a wide range of possible data collection instruments, specific requests will include items of information to collect and copies of data collection instruments. CDC will pilot test all data collection instruments. CDC will ensure cultural, developmental, and age appropriateness of each instrument. Similarly, CDC will pilot test parent data collection instruments and the data collection instruments will reflect the culture, developmental stage, and age of the parents' adolescent children.

All data collection procedures will receive review and approval by an Institutional Review Board for the protection of human subjects. CDC will also adhere to appropriate consent and assent procedures as outlined in the IRB-approved protocols and described in the generic information collection plan.

Participation of respondents is voluntary. There is no cost to the participants other than their time.

The table below provides the estimated annualized response burden for up to 15 individual data collections under this generic plan. CDC estimates 57,584 respondent burden hours for these information collections.

Estimated Annualized Burden Hours
Type of respondents | Form name | Number of respondents | Number of responses per respondent | Average burden per response (in hours) | Total burden (in hours)
Middle and High School Age Adolescents | Youth questionnaire | 20,000 | 1 | 50/60 | 16,667
Middle and High School Age Adolescents | Pre/Post youth questionnaire | 10,000 | 2 | 50/60 | 16,667
Middle and High School Age Adolescents | Youth interview/focus group guide | 3,000 | 2 | 1.5 | 9,000
Parents/caregivers of adolescents | Parent/Caregiver questionnaire | 7,500 | 2 | 25/60 | 6,250
Parents/caregivers of adolescents | Parent/Caregiver interview/focus group guide | 3,000 | 2 | 1.5 | 9,000
Total |  |  |  |  | 57,584

Leroy A. Richardson,
Chief, Information Collection Review Office, Office of Scientific Integrity, Office of the Associate Director for Science, Office of the Director, Centers for Disease Control and Prevention.

[FR Doc. 2017-24317 Filed 11-7-17; 8:45 am]

BILLING CODE 4163-18-P